ENVIRONMENTAL PROTECTION AGENCY

[ER-FRL-6661-3]

Environmental Impact Statements; Notice of Availability

Responsible Agency: Office of Federal Activities, General Information (202) 564-7167 or http://www.epa.gov/compliance/nepa/

Weekly receipt of Environmental Impact Statements

Filed February 28, 2005 Through March 4, 2005

Pursuant to 40 CFR 1506.9.

EIS No. 050083, Final EIS, NPS, VA, Petersburg National Battlefield General Management Plan, Implementation, Petersburg, VA, Wait Period Ends: April 11, 2005, Contact: Bob Kirby (804) 732-3571.

EIS No. 050084, Draft EIS, FRC, WA, Capacity Replacement Project, Construction and Operation of 79.5 miles Pipeline; Modify 5 Existing Compressor Stations, U.S. Army COE 10 and 404 Permits, Whatcom, Skagit, Snohomish, King, Pierce and Thurston Counties, WA, Comment Period Ends: April 25, 2005, Contact: Thomas Russo 1-866 208-3372.

EIS No. 050085, Final EIS, FRC, CA, Stanislaus Rivers Projects, Relicensing of Hydroelectric Projects: Spring Gap-Stanislaus FERC No. 2130; Beardsley/Donnells FERC No. 2005; Tulloch FERC No. 2067; and Donnells-Curtis Transmission Line FERC No. 2118, Tuolumne and Calaveras Counties, CA, Wait Period Ends: April 11, 2005, Contact: Susan O'Brien (202) 502-8449.

EIS No. 050086, Draft EIS, AFS, WY, Dean Project Area, Proposes to Implement Multiple Resource Management Actions, Black Hills National Forest, Bearlodge Ranger District, Sundance, Crook County, WA, Comment Period Ends: April 25, 2005, Contact: Steve Kozel (307) 283-1361.

EIS No. 050087, Draft Supplement, BLM, NV, Ruby Hill Mine Expansion—East Archimedes Project, Extension of Existing Open Pit, Expansion of Two Existing Waste Rock Disposal Areas, Plan-of-Operations Permit, Eureka County, NV, Comment Period Ends: April 25, 2005, Contact: Caleb Hiner (775) 635-4052.

EIS No. 050088, Final EIS, NOA, Reef Fish Fishery Management Plan (FMP) Amendment 23, To Set Vermilion Snapper Sustainable Fisheries Act Targets and Thresholds and to Establish a Plan to End Overfishing and Rebuild the Stock, Implementation, Gulf of Mexico, Wait Period Ends: April 11, 2005, Contact: Dr. Roy E. Crabtree (727) 570-5305.

EIS No. 050089, Draft EIS, FHW, CA, Los Banos Bypass Project, Construct from CA-152 in Merced County beginning near Volta Road west of Los Banos, bypassing Los Banos, ending near the Santa Fe Grade Road, U.S. Army COE Section 404 Permit, Merced County, CA, Comment Period Ends: May 6, 2005, Contact: Mahfoud Licha (916) 498-5866.

EIS No. 050090, Draft Supplement, IBR, CA, Battle Creek Salmon and Steelhead Restoration Project, To Address New Significant Information, Habitat Restoration in Battle Creek and Tributaries, License Amendment Issuance, Implementation, Tehama and Shasta Counties, CA, Comment Period Ends: April 25, 2005, Contact: Mary Marshall (916) 978-5248.

EIS No. 050091, Draft EIS, FRC, TX, LA, Golden Pass Liquefied Natural Gas (LNG) Import Terminal and Natural Gas Pipeline Facilities, Construction and Operation, Jefferson, Orange, Newton Counties, TX and Calcasieu Parish, LA, Comment Period Ends: April 25, 2005, Contact: Thomas Russo 1-866-208-3372.

EIS No. 050092, Final EIS, AFS, OR, Lemolo Watershed Projects, Updated and New Information concerning Recommendations Steamed from the Diamond Lake/Lemolo Lake Watershed Analysis, (WA), Implementation, Umpqua National Forest, Diamond Lake Ranger District, Douglas County, OR, Wait Period Ends: April 11, 2005, Contact: Rick Abbott (541) 498-2531.

EIS No. 050093, Draft EIS, NOA, CA, Monterey Accelerated Research Systems (MARS) Cabled Observatory, Proposes to Install and Operate an Advanced Undersea Cabled Observatory, Monterey Bay, Pacific Ocean Offshore of Moss Landing, Monterey County, CA, Comment Period Ends: April 26, 2005, Contact: Deirdre Hall (831) 647-4207.

EIS No. 050094, Draft EIS, COE, WA, ID, Lower Snake River Navigation Maintenance, To Perform Routine Maintenance of the Federal Navigation Channel and Berthing Areas, Lower Snake and Clearwater Rivers, WA and ID, Comment Period Ends: April 25, 2005, Contact: Jack Sands (509) 527-7287. This document is available on the Internet at: http://www.nww.usace.army.mil/channel_maint/one-year/default.htm.

EIS No. 050095, Draft EIS, FTA, CA, Warm Springs Extension, Proposing 5.4 Mile Extension of the BART System in the City of Fremont, Funding, San Francisco Bay Area Rapid Transit District, Alameda County, CA, Comment Period Ends: April 25, 2005, Contact: Lorraine Lerman (415) 744-2735.

EIS No. 050096, Draft EIS, NRC, IL, Early Site Permit (ESP) at the Exelon ESP Site, Application for ESP on One Additional Nuclear Unit, within the Clinton Power Station (CPS), NUREG-1815, DeWitt County, IL, Comment Period Ends: April 25, 2005, Contact: Thomas Kenyon (301) 415-1120.

EIS No. 050097, Final EIS, FRC, TX, Cheniere Corpus Christi Liquefied Natural Gas (LNG) Project, To Provide Facilities for the Importation, Storage and Vaporization of Liquefied Natural Gas, Nueces and San Patricio Counties, TX, Wait Period Ends: April 11, 2005, Contact: Thomas Russo 1-866-208-3372.

EIS No. 050098, Final EIS, FAA, PA, Philadelphia International Airport Project, Proposed Runway 17-35 Extension Project, Funding, NPDES Permit and U.S. Army COE Section 404 Permit, Philadelphia, PA, Wait Period Ends: April 11, 2005, Contact: Susan McDonald (717) 730-2841. This document is available on the Internet at: http://www.PHLrunway17-35eis.com

Amended Notices

EIS No. 040544, Draft Supplement, FHW, UT, Legacy Parkway Project, Construction from I215 at 2100 North in Salt Lake City to I-15 and U.S. 89 near Farmington, Updated Information, Funding and US Army COE Section 404 Permit, Salt Lake and Davis Counties, UT, Comment Period Ends: March 21, 2005, Contact: Gregory Punske (801) 963-0182. Revision of the Federal Register Notice Published on 12/03/2005: CEQ Comment Period Ending on 3/4/2005 has been Extended to 3/21/2005.

EIS No. 050012, Draft EIS, IBR, CA, Central Valley Project Long-Term Water Service Contract Renewals—American River Division, Proposes to Renew Long-Term Water Service Contracts, Sacramento, Placer and El Dorado Counties, CA, Comment Period Ends: March 21, 2005, Contact: David Robinson (916) 989-7179. Revision of the Federal Register Notice Published on 1/21/2005: CEQ Comment Period Ending 3/7/2005 has been Extended to 3/21/2005.

EIS No. 050022, Draft EIS, AFS, WA, Methow Transmission Project, Construction of New Transmission Line or Reconstruction an Existing Line, Okanogan and Wenatchee National Forests, Methow Valley Ranger District, Okanogan County, WA, Due: March 31, 2005, Contact: Jan Flatten (509) 826-3277. Revision of the Federal Register Notice Published on 1/28/2005: CEQ Review Period Ending 3/15/2005 has been extended to 3/31/2005.

EIS No. 050071, Final EIS, FHW, MI, I-94/Rehabilitation Project, Transportation Improvements to a 6.7 mile portion of I-94 from east I-96 west end to Conner Avenue on the east end, Funding and NPDES Permit, City of Detroit, Wayne County, MI, Due: April 29, 2005, Contact: Adbelmoez Abdalla (517) 702-1820. Revision of the Federal Register Notice Published on 02/2/054: CEQ Comment Period Ending 3/28/2005 has been Extended to 4/29/2005.

Dated: March 8, 2005.
Robert W. Hargrove,
Director, NEPA Compliance Division, Office of Federal Activities.

[FR Doc. 05-4874 Filed 3-10-05; 8:45 am]

BILLING CODE 6560-50-P